DEPARTMENT OF VETERANS AFFAIRS

[OMB Control No. 2900-0227]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the burden estimates relating to customer satisfaction surveys.

The purpose of this submission is to request a revision of a currently approved data collection under 2900-0227. VA plans to incorporate a revision of Part II (Census of Health of Veterans, SF 36 and VA Forms 10-21034 and 20-20134a through f) of the former 2900-0609. The consolidation of these existing data collections will decrease the public's reporting burden. These voluntary customer service surveys meet the requirements of Executive Order 12862, Setting Customer Service Standards.

DATES: Written comments and recommendations on the proposed collection of information should be received on or before April 21, 2003.

ADDRESSES: Submit written comments on the collection of information to Ann W. Bickoff (193B1), Department of Veterans Affairs, 810 Vermont Avenue, NW., Washington, DC 20420 or e-mail: ann.bickoff@hq.med.va.gov. Please refer to “OMB Control No. 2900-0609” in any correspondence.

FOR FURTHER INFORMATION CONTACT: Ann Bickoff at (202) 273-8310.

SUPPLEMENTARY INFORMATION: Under the PRA of 1995 (Pub. L. 104-13; 44 U.S.C., 3501—3520), Federal agencies must obtain approval from OMB for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Nation-wide Customer Satisfaction Surveys.

OMB Control Number: 2900-0227.

Type of Review: Revision of a currently approved collection.

Abstract: Executive Order 12862, Setting Customer Service Standards, requires Federal agencies and Departments to identify and survey its customers to determine the kind and quality of services they want and their level of satisfaction with existing service. VHA uses customer satisfaction surveys to gauge customer perceptions of VA services as well as customer expectations and desires. The results of these information collections lead to improvements in the quality of VHA service delivery by helping to shape the direction and focus of specific programs and services.

Affected Public: Individuals or households.

Titles:

a. Prosthetics Care and Service, VA Form 10-0142b.

b. Experiences of Patients Recently Discharged Inpatient, VA Form 10-1465-1.

c. Experiences of Patients Ambulatory Care, VA Form 10-1465-3.

d. Food Service and Nutritional Care Analysis, VA Form 10-5387.

OMB Control Number: 2900-0227.

Type of Review: Revision of a currently approved collection.

Abstract: Most customer satisfaction surveys will be recurring so that VHA can create ongoing measures of performance and to determine how well the agency meets customer service standards. Each collection of information will consist of the minimum amount of information necessary to determine customer needs and to evaluate VHA's performance.

The areas of concern to VHA and its customers may change over time, and it is important to have the ability to evaluate customer concerns quickly. OMB will be requested to grant generic clearance approval for a 3-year period to conduct customer satisfaction surveys and focus groups. Participation in the surveys will be voluntary and the generic clearance will not be used to collect information required to obtain or maintain eligibility for a VA program or benefit. In order to maximize the voluntary response rates, the information collection will be designed to make participation convenient, simple, and free of unnecessary barriers. Baseline data obtained through these information collections will be used to improve customer service standards. VHA will consult with OMB regarding each specific information collection during this approval period.

Affected Public: Individuals or Households.

Estimated Annual Burden: 207,287 hours.

a. Prosthetics Care and Service, VA Form 10-0142b — 7,200.

b. Experiences of Patients Recently Discharged Inpatient, VA Form 10-1465-1 — 35,000.

c. Experiences of Patients Ambulatory Care, VA Form 10-1465-3 — 160,500.

d. Food Service and Nutritional Care Analysis, VA Form 10-5387 — 4,587.

Estimated Average Burden Per Respondent: 23 minutes.

a. Prosthetics Care and Service, VA Form 10-0142b — 24 minutes.

b. Experiences of Patients Recently Discharged Inpatient, VA Form 10-1465-1 — 30 minutes.

c. Experiences of Patients Ambulatory Care, VA Form 10-1465-3 — 30 minutes.

d. Food Service and Nutritional Care Analysis, VA Form 10-5387 — 2 minutes.

Frequency of Response: On occasion.

Estimated Number of Respondents: 546,600.

a. Prosthetics Care and Service, VA Form 10-0142b — 18,000.

b. Experiences of Patients Recently Discharged Inpatient, VA Form 10-1465-1 — 70,000.

c. Experiences of Patients Ambulatory Care, VA Form 10-1465-3 — 321,000.

d. Food Service and Nutritional Care Analysis, VA Form 10-5387 — 137,600.

Dated: February 5, 2003.
By direction of the Secretary.
Martin Hill,
Management Analyst, Records Management Service.

[FR Doc. 03-4003 Filed 2-18-03; 8:45 am]

BILLING CODE 8320-01-P